DEPARTMENT OF THE INTERIOR

Fish and Wildlife Service

[FWS-R9-IA-2008-N0259; 96300-1671-0000-P5]

Receipt of Applications for Permit

AGENCY: Fish and Wildlife Service, Interior.

ACTION: Notice of receipt of applications for permit.

SUMMARY: The public is invited to comment on the following applications to conduct certain activities with endangered species.

DATES: Written data, comments or requests must be received by November 14, 2008.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to section 10(c) of the Endangered Species Act of 1973, as amended (16 U.S.C. 1531 et seq.). Written data, comments, or requests for copies of these complete applications should be submitted to the Director (address above).

Applicant: Lincoln Park Zoological Society, Chicago, IL, PRT-194444.

The applicant requests a permit to export two captive-born radiated tortoises (Geochelone radiata) to the Biodome de Montreal, Quebec, Canada for the purpose of enhancement of the species through conservation education.

Applicant: Los Angeles Zoo, Los Angeles, CA, PRT-189849.

The applicant requests a permit to import two male and six female captive-born yellow-footed rock wallaby (Petrogale xanthopus) from the Monarto Zoo, Monarto, Australia and Adelaide Zoo, Adelaide, Australia, for the purpose of enhancement of the survival of the species.

Applicant: Barry D. Basiliere, Long Beach, CA, PRT-191580.

The applicant requests a permit to import the sport-hunted trophy of one male bontebok (Damaliscus pygargus pygargus) culled from a captive herd maintained under the management program of the Republic of South Africa, for the purpose of enhancement of the survival of the species.

Applicant: Julius W. Kolar, Guy, TX, PRT-191581.

The applicant requests a permit to import the sport-hunted trophy of one male bontebok (Damaliscus pygargus pygargus) culled from a captive herd maintained under the management program of the Republic of South Africa, for the purpose of enhancement of the survival of the species.

Applicant: Glenn M. Smith, Valley City, OH, PRT-194286.

The applicant requests a permit to import the sport-hunted trophy of one male bontebok (Damaliscus pygargus pygargus) culled from a captive herd maintained under the management program of the Republic of South Africa, for the purpose of enhancement of the survival of the species.

Applicant: Jon R. Stephens, Columbus, TX, PRT-194086.

The applicant requests a permit to import the sport-hunted trophy of one male bontebok (Damaliscus pygargus pygargus) culled from a captive herd maintained under the management program of the Republic of South Africa, for the purpose of enhancement of the survival of the species.

Applicant: Kirt O. Fredericks, Spangle, WA, PRT-194319.

The applicant requests a permit to import the sport-hunted trophy of one male bontebok (Damaliscus pygargus pygargus) culled from a captive herd maintained under the management program of the Republic of South Africa, for the purpose of enhancement of the survival of the species.

Applicant: Feld Entertainment, Inc., Vienna, VA, PRT-191078, 191079, 191080, 191081, 191082, and 191083.

The applicant requests permits to export, re-export, and re-import two male and four female captive-born tigers (Panthera tigris) to worldwide locations for the purpose of enhancement of the species through conservation education. The permit numbers and animals are: 191078, Taurus; 191079, Fiona; 191080, Spirit; 191081, Cia; 191082, Mikala; 191083, Mohan. This notification covers activities to be conducted by the applicant over a three-year period and the import of any potential progeny born while overseas.

Dated: September 12, 2008.
Lisa J. Lierheimer,
Senior Permit Biologist, Branch of Permits, Division of Management Authority.

[FR Doc. E8-24548 Filed 10-14-08; 8:45 am]

BILLING CODE 4310-55-P